DEPARTMENT OF TRANSPORTATION

Federal Transit Administration

Alternative Transportation in Parks and Public Lands Program

AGENCY: Federal Transit Administration (FTA), DOT.

ACTION: Notice of Funding Availability: Alternative Transportation in Parks and Public Lands Program.

SUMMARY: This notice solicits proposals to compete for Fiscal Year (FY) 2008 funds through the Alternative Transportation in Parks and Public Lands program (ATPPL), administered by the Federal Transit Administration (FTA) in partnership with the Department of the Interior (DOI) and the U.S. Department of Agriculture's Forest Service. The purpose of the program is to enhance the protection of national parks and Federal lands, and increase the enjoyment of those visiting them. The program funds capital and planning expenses for alternative transportation systems such as buses and trams in federally-managed parks and public lands. Federal land management agencies and State, tribal and local governments, acting with the consent of a Federal land management agency, are eligible to apply. DOI, after consultation with and in cooperation with FTA, will determine the final selection and funding of projects.

DATES: Complete proposals must be received by the close of business on February 29, 2008.

ADDRESSES: Project proposals must be submitted to the FTA. Applicants are encouraged to submit proposals through the government-wide electronic grants Web site at http://www.grants.gov. Click on “Find Grant Opportunities,” then on “Basic Search,” and enter “D2008-ATPL-650-001” as the keyword. Submissions will also be accepted by e-mail, mail, or fax to: Scott Faulk, Office of Program Management, Federal Transit Administration, tel: 202-366-1660, fax: 202-366-7951, e-mail: Scott.Faulk@dot.gov, mail: 1200 New Jersey Ave., SE.; E44-417; Washington, DC 20590. The required project proposal template is available at grants.gov and on the program Web site at http://www.fta.dot.gov/atppl.

FOR FURTHER INFORMATION CONTACT: Contact Scott Faulk, Office of Program Management, Federal Transit Administration, 202-366-1660, e-mail: Scott.Faulk@dot.gov.

Applicants may also contact the following ATPPL points of contact at the Federal land management agencies:

• National Park Service: Mark H Hartsoe, Mark_H_Hartsoe@nps.gov; tel: 202-513-7025, fax: 202-371-6675, mail: 1849 C Street, NW., (MS2420); Washington, DC 20240-0001.

• Fish and Wildlife Service: Nathan Caldwell, nathan_caldwell@fws.gov, tel: 703-358-2205, fax: 703-358-2517, mail: 4401 N. Fairfax Drive, Room 634; Arlington, VA 22203.

• Forest Service: Ellen LaFayette, elafayette@fs.fed.us, tel: 703-605-4509, cell: 703-472-2456, fax: 703-605-1542, mail: 1400 Independence Avenue, SW.; Washington, DC 20250-1101. FedEx: USDA Forest Service, Engineering Suite RPC 500, 1601 N. Kent Street, Arlington, VA 22209.

• Bureau of Land Management: Linda Force, linda_force@blm.gov, tel: 202-557-3567, fax: 202-452-5046, mail: 1849 C Street, NW.; Washington, DC 20240.

SUPPLEMENTARY INFORMATION:

Table of Contents

I. General Program Information

II. Guidelines for Preparing and Submitting Proposals

III. Proposal Review, Selection, and Notification

IV. Additional Program Information

I. General Program Information

A. Authority

Section 3021 of the Safe, Accountable, Flexible, Efficient Transportation Equity Act—A Legacy for Users of 2005 (SAFETEA-LU) established the Alternative Transportation in Parks and Public Lands (ATPPL) program (49 U.S.C. 5320). SAFETEA-LU authorized $97 million in funding for the program for FY 2006 through FY 2009. SAFETEA-LU authorized $25 million for FY 2008. Availability of funding is subject to congressional appropriations, which have not yet been finalized for FY 2008. No one project may receive more than 25 percent of available funds.

B. Background

Congestion in and around parks and public lands causes traffic delays and noise and air pollution that substantially detract from the visitor's experience and the protection of natural resources. In August 2001, the Department of Transportation (DOT) and DOI published a comprehensive study of alternative transportation needs in national parks and related Federal lands. The study identified significant alternative transportation needs at sites managed by the National Park Service, the Bureau of Land Management, and the U.S. Fish and Wildlife Service. Additionally, a supplement to this report identified Forest Service sites that would benefit from such services.

Section 3021 of SAFETEA-LU (49 U.S.C. 5320) addresses these needs by establishing a new program to fund alternative transportation projects in national parks and other Federal lands. The goals of the program are to:

• Conserve natural, historical, and cultural resources;

• reduce congestion and pollution;

• improve visitor mobility and accessibility;

• enhance visitor experience; and

• ensure access to all, including persons with disabilities.

C. Eligible Applicants

Eligible applicants are:

(1) Federal land management agencies, including the National Park Service, the Fish and Wildlife Service, the Bureau of Land Management, the Forest Service, and the Bureau of Reclamation; and

(2) State, tribal and local governments with jurisdiction over land in the vicinity of an eligible area, acting with the consent of a Federal land management agency, alone or in partnership with a Federal land management agency or other governmental or non-governmental participant. If the applicant is a State, tribal, or local government, a letter from the affected unit(s) of the Federal land management agencies expressing support for the project should be submitted with the project proposal.

D. Eligible Expenses

SAFETEA-LU defines alternative transportation as “transportation by bus, rail, or any other publicly or privately owned conveyance that provides to the public general or special service on a regular basis, including sightseeing service. Such term also includes a non-motorized transportation system (including the provision of facilities for pedestrians, bicycles, and non-motorized watercraft).”

A qualified project is a planning or capital project in or in the vicinity of a federally-owned or managed park, refuge, or recreational area that is open to the general public and meets the goals of the program. Operating expenses are not eligible under the program. A project proposal may include up to 15 percent of project expenses for project administration, contingency, and oversight. As specified in 49 U.S.C. Section 5320(b)(5), the following types of projects are eligible:

Planning

1. Activities to comply with metropolitan and statewide planning provisions. (49 U.S.C. 5320(b)(5)(A) referencing 49 U.S.C. 5303, 5304, 5305).

2. Activities include planning studies for an alternative transportation system including evaluation of no-build and all other reasonable alternatives, traffic studies, visitor utilization studies, transportation analysis, feasibility studies, and environmental studies.

Capital

1. General Capital Expenses for Alternative Transportation System Projects

a. Eligible capital projects include all aspects of “acquiring, constructing, supervising, or inspecting equipment or a facility for use in public transportation, expenses incidental to the acquisition or construction (including designing, engineering, location surveying, mapping, and acquiring rights-of-way), payments for the capital portions of rail trackage rights agreements, transit-related intelligent transportation systems, relocation assistance, acquiring replacement housing sites, and acquiring, constructing, relocating, and rehabilitating replacement housing;”

b. Capital projects may include those projects operated by an outside entity, such as a public transportation agency, State or local government, private company engaged in public transportation, or private non-profit organization; and

c. Projects may also include the deployment/commercialization of alternative transportation vehicles that introduce innovative technologies or methods.

2. “Fixed Guideway” and Bus Projects

a. The SAFETEA-LU legislation includes language allowing eligibility of “fixed guideway” projects. These are defined as those transportation projects that run on a dedicated right of way, like a light rail, trolley, bus rapid transit, or any type of ferry system. For these types of projects, eligible projects can include:

i. Development of a new fixed guideway project;

ii. Rehabilitation or modernization of existing fixed guideway systems; and,

iii. Expansion of existing systems.

b. For bus or shuttle projects, eligible projects can include

i. Purchase of buses and related equipment;

ii. Replacement of buses and related equipment;

iii. Rehabilitation of buses and related equipment;

iv. Construction of bus-related facilities such as bus shelters; and,

v. Purchase of rolling stock that incorporates clean fuel technology or the replacement of buses of a type in use on August 10, 2005, with clean fuel vehicles.

3. The ATPPL program specifically includes these other eligible capital projects:

a. The capital costs of coordinating Federal land management agency public transportation systems with other public transportation systems.

b. Non-motorized transportation systems (including the provision of facilities for pedestrians, bicycles and non-motorized watercraft).

c. Water-borne access systems within or in the vicinity of an eligible area as appropriate and consistent with section 5320.

d. Any other alternative transportation project that

i. Enhances the environment;

ii. Prevents or mitigates an adverse impact on a natural resource;

iii. Improves Federal land management agency resource management;

iv. Improves visitor mobility and accessibility and the visitor experience;

v. Reduces congestion and pollution (including noise pollution and visual pollution); or

vi. Conserves a natural, historical, or cultural resource (excluding rehabilitation or restoration of a non-transportation facility).

In order to be considered for funding, a project must consist of one or more of the eligible activities listed above, meet the definition of alternative transportation, and contribute to the goals of the program.

Lease vs. Purchase

The capital cost of leasing vehicles is an eligible expense under the program. For vehicle acquisition projects, sponsors should compare the cost-effectiveness of leasing versus purchasing vehicles. Leasing may be particularly cost effective in circumstances in which transit service is only needed during a peak visitation period that lasts only a few months. In these cases, leasing a vehicle for a few months during the year may be less expensive than purchasing a vehicle that is then only used for a few months during the year. An ATPPL award can cover the capital cost of leasing vehicles but not the cost of operations.

Project sponsors should also compare the cost effectiveness of providing service versus contracting for service. The capital portion of contracted service is an eligible capital expense under the program. For example, if a public land contracts with a private bus company to provide a shuttle service with privately owned buses, the portion of the contract that covers the capital expense of the buses is an eligible expense under the ATPPL program. Operating expenses are not eligible under the program. Project sponsors will be asked to compare the cost-effectiveness of their preferred option to other alternatives in the financial sustainability portion of the proposal.

E. Proposal Evaluation Criteria and Other Considerations

It is anticipated that the demand for financial assistance through the ATPPL program will significantly exceed the funds available, and thus the selection process will be highly competitive. Project proposals will be evaluated based on how well the proposed project would meet the goals of the program identified in the legislation and in section I B of this notice. The criteria below, which are consistent with the considerations identified in section 5320(g)(2), aid evaluators in determining how well projects would meet these goals. The application template contains specific questions related to each of these criteria to guide the applicant in justifying the project.

Proposed capital projects will be evaluated based on the following criteria:

• Demonstration of Need.

○ Visitor mobility & experience current or anticipated problem.

○ Environmental current or anticipated problem.

• Visitor Mobility & Experience Benefits of Project.

○ Reduced traffic congestion.

○ Enhanced visitor mobility, accessibility, and safety.

○ Improved visitor education, recreation, and health benefits.

• Environmental Benefits of Project.

○ Protection of sensitive natural, cultural, and historic resources.

○ Reduced pollution (air, noise, visual).

• Financial Sustainability and Operational Efficiency.

○ Effectiveness in meeting management goals.

○ Realistic financial plan.

○ Cost effectiveness.

○ Partnering, funding from other sources, innovative financing.

Proposed planning projects will be evaluated based on the following criteria:

• Demonstration of Need.

○ Visitor mobility & experience current or anticipated problem.

○ Environmental current or anticipated problem.

• Methodology for Assessing Visitor Mobility & Experience Benefits of Project.

○ Reduced traffic congestion.

○ Enhanced visitor mobility, accessibility, and safety.

○ Improved visitor education, recreation, and health benefits.

• Methodology for Assessing Environmental Benefits of Project.

○ Protection of sensitive natural, cultural, and historical Resources.

○ Reduced pollution (air, noise, visual).

• Methodology for Assessing Operational Efficiency and Financial Sustainability of Alternatives.

○ Effectiveness in meeting management goals.

○ Realistic financial plan.

○ Cost effectiveness.

○ Partnering, funding from other sources.

A special note on non-motorized transportation systems: While non-motorized systems, such as trails, are eligible under the program, not all non-motorized systems will meet the goals of the program needed to be considered for funding. Like motorized systems, in order to be considered for funding, non-motorized systems must reduce or mitigate the number of auto trips by providing an alternative to travel by private auto. In addition, non-motorized systems must provide a high degree of connectivity within a transportation system. Finally, they should improve safety for motorized and non-motorized transportation system users.

Additional consideration will be given to projects based upon geographic diversity, balance between urban and rural projects, and balance in size of projects.

The program of projects may also be balanced by type of project, as categorized below, to best show accomplishments from the program.

• New alternative transportation systems—to show new systems made possible by this new program.

• Expansion or enhancement of an existing alternative transportation system—to demonstrate improvements and expansions enabled by the program.

• Rehabilitation or replacement of vehicles or facilities of existing alternative transportation systems—to support and sustain existing meritorious systems into the future.

• Planning studies—to prepare for new systems that can be funded in future years.

II. Guidelines for Preparing and Submitting Proposals

Applicants are encouraged to submit proposals through the Federal government-wide electronic grants Web site at http://www.grants.gov. Click on “Find Grant Opportunities,” then on “Basic Search,” and enter “D2008-ATPL-650-001” as the keyword. Submissions will also be accepted by e-mail, mail, or fax to the Federal Transit Administration using the contact information found in the Addresses section of this notice. The required project proposal template as well as guidance on completing a proposal can be found on grants.gov and on the program Web site at http://www.fta.dot.gov/atppl. There are separate proposal templates for planning and capital (“implementation”) projects. Project proposals must adhere to the page limits listed on the proposal templates.

A “webinar”-style workshop to provide information on the program and guidance on applying will be held in January. Check the Web site at http://www.fta.dot.gov/atppl for more details. If you do not have adequate internet access you may request hard copies of the webinar presentations and information on how to phone in to the webinar from Scott Faulk at 202-366-1660.

If applicants would like to apply for funds appropriated for future fiscal years, applicants must reapply each year. An applicant may also propose a project that would expend money in multiple years even though the award is from one year's worth of appropriated ATPPL program funds. The project, would however, need to be ready to begin and need to be completed in a reasonable period of time, as evaluated on a case by case basis. In sum, the period of performance of the award is separate from the year of funds of the award.

III. Selection and Notification

Selected projects will be announced in summer 2008. The DOI will notify each Federal land management agency of projects awarded for sites under the agency's jurisdiction. FTA will publish the list of all selected projects and funding levels in the Federal Register, as well as in its annual report to Congress on the ATPPL program submitted as part of its Annual Report on New Starts in early February 2009. Criteria and application procedures may be reassessed for subsequent years.

IV. Additional Program Information

A. Funds Administration

Once proposals have been reviewed and projects have been selected, FTA will award funds to the lead project sponsor to implement the project. These funds will be administered according to Federal requirements as well as the appropriate policies, guidelines and rules of the pertinent agencies.

For projects directly administered by a Federal land management agency, these funds will be administered by interagency agreement between the FTA and the respective agency. For programs administered by a State, tribal, or local governmental authority, these funds will be administered through a grant administered by FTA.

B. Program Requirements and Oversight

The requirements for recipients of funding through the program can be found at http://www.fta.dot.gov/atppl under “Requirements for Recipients of Funding.” This document also describes the oversight FTA will provide for this program.

C. Performance Measures

Participants may be asked to compile data for use in measuring program performance.

D. Technical Assistance, Planning, and Research

The ATPPL program allows DOT to spend not more than ten percent of program funds to carry out planning, research, and technical assistance activities. FTA will oversee the funds allocated to technical assistance to assist program participants in planning, implementing, and evaluating alternative transportation projects. In addition, FTA will be responsible for the provision of planning guidance and dissemination of research findings. A limited number of technical assistance visits are available to assist potential project sponsors in the initial stages of planning. Project sponsors or potential project sponsors may contact the relevant Federal land management agency headquarters contact, or the FTA contact in the Addresses section, to request technical assistance or provide ideas of types of activities that would be particularly helpful in furthering the goals of the program.

Issued in Washington, DC this 7th day of December 2007.
James S. Simpson,
Administrator.

[FR Doc. E7-24129 Filed 12-12-07; 8:45 am]

BILLING CODE 4910-57-P